DEPARTMENT OF THE TREASURY

Public Meeting of the President's Advisory Panel on Federal Tax Reform

AGENCY: Department of the Treasury.

ACTION: Notice of meeting.

SUMMARY: This notice advises all interested persons of the location of the May 17, 2005, public meeting of the President's Advisory Panel on Federal Tax Reform. This meeting was previously announced in 70 FR 22758 (May 2, 2005).

DATES: The meeting will be held on Tuesday, May 17, 2005, and will begin at 9:30 a.m.

ADDRESSES: The meeting will be held at the Georgetown University Law Center, 600 New Jersey Ave., NW., Washington, DC 20001. Seating will be available to the public on a first-come, first-served basis.

FOR FURTHER INFORMATION CONTACT: The Panel staff at (202) 927-2TAX (927-2829) (not a toll-free call) or e-mail info@taxreformpanel.gov (please do not send comments to this box). Additional information is available at http://www.taxreformpanel.gov.

Dated: May 12, 2005.
Mark S. Kaizen,
Designated Federal Officer.

[FR Doc. 05-9786 Filed 5-13-05; 8:45 am]

BILLING CODE 4810-25-P